DEPARTMENT OF COMMERCE

Bureau of Industry and Security

15 CFR Part 774

The Commerce Control List

CFR Correction

In Title 15 of the Code of Federal Regulations, Parts 300 to 799, revised as of January 1, 2012, in supplement no. 1 to part 774, make the following corrections:

1. In Category 7:

A. On page 838, in 7A002, under the table in “Licensing Requirements”, add a “License Requirements Note” as set forth below.

B. On page 839, in 7A005, above “License Requirements”, remove the Note to 7A005.

C. On page 840, in 7A008, add “License Requirements” above “Reason for Control”.

D. On page 843, in 7B101, in the heading, add a quotation mark before “Production”.

E. On page 847, in 7E003, at the end of “Related Definition”, add “for `Maintenance Level I' or `Maintenance Level II'”.

2. In Category 9, on page 870, in 9E003, below paragraph a.10, remove Note 1 and Note 2.

The text to be added is set forth below:

Supplement No. 1 to Part 774—The Commerce Control List

* * * * *

Category 7

* * * * *

7A002 Gyros or angular rate sensors, having any of the following see List of Items Controlled) and specially designed components therefor.

* * * * *

License Requirement Note: For the purpose of MT controls only, the term `stability' is defined as a measure of the ability of a specific mechanism or performance coefficient to remain invariant when continuously exposed to a fixed operating condition. (This definition does not refer to dynamic or servo stability.) (IEEE STD 528-2001 paragraph 2.247)

* * * * *

[FR Doc. 2012-19389 Filed 8-6-12; 8:45 am]

BILLING CODE 1505-01-D